DEPARTMENT OF TREASURY

Internal Revenue Service

Appointment of Members of the Legal Division to the Performance Review Board, Internal Revenue Service

Under the authority granted to me as Acting Chief Counsel of the Internal Revenue Service by the General Counsel of the Department of the Treasury by General Counsel Directive 15, pursuant to the Civil Service Reform Act, I have appointed the following persons to the Legal Division Performance Review Board, Internal Revenue Service Panel:

1. Tyler S. Badgley, Deputy General Counsel, Department of the Treasury—Chair

2. Edward T. Killen, Commissioner, Tax Exempt and Government Entities (IRS)

3. Krishna Vallabhaneni, Tax Legislative Counsel, Office of Tax Policy (Treasury)

Alternate: Kevin M. Salinger, Deputy Assistant Secretary, Tax Policy (Treasury)

This publication is required by 5 U.S.C. 4314(c)(4).

Kenneth J. Kies,
Chief Counsel (Acting), Internal Revenue.

[FR Doc. 2025-22418 Filed 12-9-25; 8:45 am]

BILLING CODE 4830-01-P